NUCLEAR REGULATORY COMMISSION

Public Meetings for the Yucca Mountain Review Plan, NUREG-1804, Revision 2, Draft Report for Comment

AGENCY: Nuclear Regulatory Commission.

ACTION: Notice of public meetings.

SUMMARY: The U.S. Nuclear Regulatory Commission (NRC) is announcing public meetings on the “Yucca Mountain Review Plan, NUREG-1804, Revision 2, Draft Report for Comment.” The draft “Yucca Mountain Review Plan” provides guidance to the NRC staff for evaluating a potential license application for a geologic repository. The draft “Yucca Mountain Review Plan” notice of availability and request for comments was published in the Federal Register on March 29, 2002 (67 FR 15257). A correction in the April 2, 2002 Federal Register (67 FR 16490) states the public comment period ends on June 27, 2002.

Three meetings have been scheduled in the State of Nevada to engage the public in a discussion of the draft “Yucca Mountain Review Plan” and ensure that the process for developing the final Revision 2 of the review plan gives full consideration to the views of the public. The meetings will include several brief presentations on the purpose, scope, structure, and content of the Yucca Mountain Review Plan. NRC is seeking public input on whether the draft “Yucca Mountain Review Plan” would effectively assess the safety of a potential geologic repository both during the operations period and after permanent closure. NRC will keep a transcript of the meetings to ensure full consideration of all comments and questions. The meetings will be facilitated by Francis X. Cameron, Special Counsel for Public Liaison, of the NRC.

Time/Date: The first public meeting will be held on Tuesday, May 21, 2002, from 6:30 PM to 9:00 PM (Pacific Time).

Place: Mountain View Casino and Bowl, 1750 South Pahrump Valley Boulevard, Pahrump, Nevada 89048-5615.

Time/Date: The second public meeting will be held on Wednesday, May 22, 2002, from 2:00 PM to 4:30 PM (Pacific Time).

Place: Clark County Building Department, 4701 W. Russell Road, Las Vegas, Nevada 89118. The cross street is (4900 W) Decatur/Russell.

Time/Date: The third public meeting will be held on Thursday, May 23, 2002, from 6:30 PM to 9:00 PM (Pacific Time).

Place: Clark County Building Department, 4701 W. Russell Road, Las Vegas, Nevada 89118. The cross street is (4900 W) Decatur/Russell.

FOR FURTHER INFORMATION CONTACT: Francis X. Cameron, Special Counsel for Public Liaison, Office of General Counsel, U.S. Nuclear Regulatory Commission, Washington, DC 20555-0001, or by telephone: (301) 415-1642, or by e-mail: fxc@nrc.gov.

SUPPLEMENTARY INFORMATION: Copies of the draft “Yucca Mountain Review Plan” will be available at the public meeting. The document is also available at NRC's website at: http://www.nrc.gov/reading-rm/doc-collections/nuregs/staff/sr1804/. You may also send comments electronically from this website by clicking on comment form. If a hard copy is preferred, a free single copy of the “Yucca Mountain Review Plan, NUREG-1804, Revision 2, Draft Report for Comment,” may be requested by writing to the U.S. Nuclear Regulatory Commission, ATTN.: Reproduction and Distribution Services Branch, Washington, DC 20555-0001; sending an e-mail to Distribution@nrc.gov; or by sending a fax to (301) 415-2289. A copy of the “Yucca Mountain Review Plan, NUREG-1804, Revision 2, Draft Report for Comment,” is also available for inspection, and copying for a fee, in the NRC's Public Document Room, One White Flint North, Public File Area O1-F21, 11555 Rockville Pike, Rockville, Maryland.

Dated at Rockville, Maryland, this 30th day of April, 2002.
For the Nuclear Regulatory Commission.
Janet R. Schlueter,
Chief, High-Level Waste Branch, Division of Waste Management, Office of Nuclear Material Safety and Safeguards.

[FR Doc. 02-11280 Filed 5-6-02; 8:45 am]

BILLING CODE 7590-01-P